DEPARTMENT OF HEALTH AND HUMAN SERVICES

National Institutes of Health

Proposed Collection; Comment Request; Process Evaluation of the NIH Roadmap Epigenomics Program

Summary: In compliance with the requirement of Section 3506(c)(2)(A) of the Paperwork Reduction Act of 1995, for opportunity for public comment on proposed data collection projects, the National Institute of Drug Abuse (NIDA), the National Institutes of Health (NIH), will publish periodic summaries of proposed projects to be submitted to the Office of Management and Budget (OMB) for review and approval.

Proposed Collection

Title: Process Evaluation of the NIH Roadmap Epigenomics Program.

Type of Information Collection Request: New.

Need and Use of Information Collection: The proposed information collection is essential to the process evaluation of the NIH Roadmap Epigenomics Program. The process evaluation is a requirement of each awardee funded under the NIH Roadmap Epigenomics Program. This participation requirement is stated in the program's Requests for Applications.

This evaluation study, a mixed-methods study which uses secondary source documentation and information from tracking and monitoring systems along with primary data to assess program process and progress, is non-experimental. The assessment is based on secondary source information, with primary source information collection added to augment the reliability and internal validity. The primary data collection uses information categories that genuinely tap added distinctions and opinions that relate to it to build the weight of evidence from first-hand sources and substantiate the initial hypotheses about the program phenomenon and its differences from a typical research portfolio of individual and insular projects.

The synthesized results across primary and secondary data sources will provide critical insights on transformativeness of high-impact, trans-NIH programs and contribute important information about the synergies and collaborations in multi-component scientific research. It will also identify areas for program improvement and lessons learned that might be useful to other research programs of the Agency.

To reduce response bias and to make the survey as accessible as possible to busy principal investigators, the survey will be Web-based.

Frequency of Response: Once.

Affected Public: Principal Investigators of the program at not-for-profit institutions.

Type of Respondents: Principal Investigators.

The annual reporting burden is as follows:

Estimated number of Respondents: 53.

Estimated Number of Responses per Respondent: 1.

Average Burden Hours Per Response: 0.33.

Estimated Total Annual Burden Hours Requested: 17.49.

The annualized cost to respondents is estimated at: $891.99.

There are no Capital Costs, Operating Costs and/or Maintenance Costs to report.

Estimated Annualized Burden Hours
Type of respondent | Number of respondents | Frequency of responses per respondent | Average burden hours per response | Annual burden hours requested
Principal Investigators | 53 | 1 | 0.33 (20 minutes) | 17.49

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

For Further Information Contact: To request more information on the proposed project or to obtain a copy of the data collection plans and instruments, contact Genevieve deAlmeida-Morris, PhD, M.P.H., Project Officer, Office of Science Policy and Communications, NIH/NIDA, NSC—Neuroscience Center, 5229, 6001 Executive Blvd., Rockville, MD 20852 or call non-toll-free number 301-594-6802 or e-mail your request including your address to: dealmeig@nida.nih.gov.

Comments Due Date: Comments regarding this information collection are best assured of having their full effect if received within 60-days of the date of this publication.

Dated: March 8, 2011.
Mary Affeldt,
Executive Officer (OM Director), NIDA.

[FR Doc. 2011-5786 Filed 3-11-11; 8:45 am]

BILLING CODE 4140-01-P